DEPARTMENT OF JUSTICE

Notice of Lodging of Proposed Consent Decree Under the Clean Water Act

On March 16, 2022, the Department of Justice lodged a proposed Consent Decree with the United States District Court for the Southern District of Ohio in the lawsuit entitled United States v. Austin Powder Co., Civil Action No. 2:22-cv-1645.

The United States' Complaint in this matter alleges violations of the Clean Water Act (CWA) at Austin Powder's Red Diamond Plant explosives manufacturing facility in McArthur, Ohio. The alleged CWA violations include hundreds of exceedances of the effluent limits in Austin Powder's NPDES Permit. Under the proposed Consent Decree, Austin Powder would pay a $2.3 million civil penalty and improve two of its wastewater treatment plants, including implementing comprehensive operation and maintenance plans designed to bring the company into compliance with its NPDES Permit and ensure future compliance.

The publication of this notice opens a period for public comment on the Consent Decree. Comments should be addressed to the Assistant Attorney General, Environment and Natural Resources Division, and should refer to United States v. Austin Powder Co., D.J. Ref. No. 90-5-1-1-12117. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $69.25 (25 cents per page reproduction cost) payable to the United States Treasury. For a paper copy without the exhibits and signature pages, the cost is $10.25.

Karen S. Dworkin,
Deputy Section Chief, Environmental Enforcement Section, Environment and Natural Resources Division.

[FR Doc. 2022-06035 Filed 3-21-22; 8:45 am]

BILLING CODE 4410-15-P